FEDERAL EMERGENCY MANAGEMENT AGENCY

Open Meeting, Advisory Committee for the National Urban Search and Rescue Response System

AGENCY: Federal Emergency Management Agency (FEMA).

ACTION: Notice of open meeting.

SUMMARY: In accordance with section 10(a)(2) of the Federal Advisory Committee Act (Publ. L. 92-463,5 U.S.C. App.), announcement is made of the following committee meeting:

Name: Advisory Committee for the National Urban Search and Rescue Response System.

Date of Meeting: January 30-31, 2001

Place: Marriott Wardman Park Hotel, 2660 Woodley Road, NW, Washington, DC 20008.

Time: January 30: 9:00 a.m.—5:00 p.m. January 31: 9:00 a.m.—5:00 p.m.

Proposed Agenda: The committee will be provided with a program update that will address the status of ongoing program activities, including recent training and exercises. The committee will review and revise the current Advisory Organization Decision Process document. The committee will consider current and future program requirements and will make recommendations for budget allocations and requests for Fiscal Years 2001 through 2003. Discussion will also be held concerning urban search and rescue task force operational status and transportation issues. The committee will review the current status of draft urban search and rescue regulations and system documentation revisions. Finally, the committee will identify priorities for its subordinate working groups for Fiscal Year 2001.

The meeting will be open to the public, with approximately 20 seats available on a first-come, first-served basis. All members of the public interested in attending should contact Mark R. Russo, at 202-646-2701.

Minutes of the meeting will be prepared and will be available for public viewing at the Federal Emergency Management Agency, Operations and Planning Division, Response and Recovery Directorate, 500 C Street, SW, Washington, DC 20472. Copies of the minutes will be available upon request 30 days after the meeting.

Robert J. Adamcik,
Deputy Associate Director, Response & Recovery Directorate.

[FR Doc. 01-70 Filed 1-2-01; 8:45 am]

BILLING CODE 6718-02-P